GENERAL SERVICES ADMINISTRATION

Office of Communications; Cancellation of a Standard Form by the Office of Personnel Management (OPM)

AGENCY: Office of Communications, GSA.

ACTION: Notice.

SUMMARY: The Office of Personnel Management (OPM) cancelled SF SF 1150A, Transfer of Leave Records for Leave Recipient Covered by the Voluntary Leave Transfer Program since they no longer prescribe any standard data elements when a current leave recipient transfers to another employing agency without a break in service. Each agency needs to set their own policy on how this process is handled. OPM developed their own form which they are happy to share with you but is NOT for mandatory use. You can obtain a copy of this form from the internet (Address: http://www.opm.gov/forms).

FOR FURTHER INFORMATION CONTACT: Ms. Barbara Williams, General Services Administration, (202) 501-0581.

DATES: Effective August 30, 2001.

Dated: August 23, 2001.
Barbara M. Williams,
Deputy Standard and Optional Forms Management Officer, General Services Administration.

[FR Doc. 01-21914 Filed 8-29-01; 8:45 am]

BILLING CODE 6820-34-M